DEPARTMENT OF COMMERCE

National Oceanic and Atmospheric Administration

[RTID 0648-XC631]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ). The meeting is a hybrid meeting open to the public offering both in-person and virtual options for participation.

DATES: The meeting will convene Monday, January 30 through Wednesday, February 1, 2023, from 8 a.m. to 5 p.m. and Thursday, February 2, 2023, from 8 a.m. to 4:30 p.m., CST.

ADDRESSES: The meeting will take place at the Hilton Baton Rouge Capitol Center hotel, located at 201 Lafayette Street, Baton Rouge, LA 70801. Please note, in-person meeting attendees will be expected to follow any current safety protocols as determined by the Council, hotel and the City of Baton Rouge, if any. Such precautions may include masks, room capacity restrictions, and/or social distancing. If you prefer to “listen in”, you may access the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, January 30, 2023; 8 a.m.-5 p.m., CST

The meeting will begin with the Administrative/Budget Committee reviewing modifications to the Council's Standard Operations Practices and Procedures (SOPPS), and approval of Proposed 2023 Activities and Draft 2023 Budget.

The Coral Committee will review Florida Keys National Marine Sanctuary (FKNMS) Proposed Rule Recommendations from Council's Advisory Panels (Coastal Migratory Pelagics, Coral, Reef Fish, Shrimp, and Spiny Lobster), receive an update on the Protocol for Cooperative Fisheries Management, Draft Council letter to the FKNMS and Coral Reef Conservation Program Update.

The Sustainable Fisheries Committee will review and discuss Alternative Allocation Approaches and Scientific and Statistical Committee (SSC) Recommendations; receive an Allocation Overview presentation; and, review of SSC recommendations on Acceptable Biological Catch (ABC) Control Rule.

The Reef Fish Committee will review Final Action: Framework Action for Gray Triggerfish Commercial Trip Limit.

Tuesday, January 31, 2023; 8 a.m.-5 p.m., CST

The Reef Fish Committee will reconvene to review and discuss the Individual Fishing Quota (IFQ) Focus Group Outcomes, Program Priorities List and Draft Amendment 56: Modifications to the Gag Grouper Catch Limits, Sector Allocations, and Fishing Seasons. The Committee will have a 30-minute break for a working lunch. Following the break, the Committee will review Draft Options: Modifications to Recreational and Commercial Greater Amberjack Management Measures and Revised Recreational Red Snapper Calibration Ratios.

Wednesday, February 1, 2023; 8 a.m.-5 p.m., CST

The Data Collection Committee will review Final Action: Abbreviated Framework Action to Modify For-hire Trip Declaration Requirements, Modification to Commercial Coastal Logbook Reporting Requirements and Coastal Migratory Pelagics Advisory Panel Recommendations, and receive an Overview Presentation of State Specific Private Angler Licensing and Reporting Requirements currently used to define offshore anglers in each state.

The Outreach and Education (O&E) Committee will receive a presentation on 2022 Communications Analytics and Updated Communications Plan, overview of Recreational Data (MRIP) Storyboard, 2023 Outreach Event Plan and Communications Improvement Plan; and, other items from the O&E Technical Committee Summary.

At approximately 11 a.m., CST, the Council will convene with a Call to Order, Announcements and Introductions, Adoption of Agenda and Approval of Minutes. The Council will receive updates on Return Em' Right Project and Bureau of Ocean Energy Management (BEOM) on Wind Energy Development in the Gulf of Mexico.

The Council will hold public testimony from 1:30 p.m. to 5 p.m., CST on Final Action Items: Framework Action for Gray Triggerfish Commercial Trip Limit and Abbreviated Framework Action to Modify For-hire Trip Declaration Requirements; Florida Keys National Marine Sanctuary Proposed Rule; and, open testimony on other fishery issues or concerns. Public comment may begin earlier than 1:30 p.m. CST, but will not conclude before that time. Persons wishing to give public testimony in-person must register at the registration kiosk in the meeting room. Persons wishing to give public testimony virtually must sign up via the link on the Council website. Registration for virtual testimony is open at the start of the meeting, Monday, January 30th at 8 a.m., CST and closes one hour before public testimony begins on Wednesday, February 1st at 12:30 p.m., CST.

Thursday, February 2, 2023; 8 a.m.-4:30 p.m., CST

The Council will receive Committee reports from Administrative/Budget, Coral, Sustainable Fisheries, Data Collection, Outreach and Education, and Reef Fish Management Committees. The Council will receive updates from the following supporting agencies: South Atlantic Fishery Management Council; Louisiana Law Enforcement Efforts; NOAA Office of Law Enforcement (OLE); Gulf States Marine Fisheries Commission; U.S. Coast Guard; U.S. Fish and Wildlife Service; and Department of State.

The Council will receive a Litigation Update and discuss any Other Business items.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: January 5, 2023.
Rey Israel Marquez,
Acting Deputy Director, Office of Sustainable Fisheries, National Marine Fisheries Service.

[FR Doc. 2023-00305 Filed 1-9-23; 8:45 am]

BILLING CODE 3510-22-P